Proclamation 8045 of August 29, 2006

National Prostate Cancer Awareness Month, 2006

By the President of the United States of America

A Proclamation

The United States continues to move forward in its fight against cancer, yet an estimated 27,000 American sons, fathers, brothers, and husbands will be lost to prostate cancer this year. As we observe National Prostate Cancer Awareness Month, we underscore our commitment to defeating prostate cancer by raising awareness about its risk factors, promoting the importance of early detection and treatment, and advancing our understanding of the disease and how to stop it.

Medical research has shown that there are steps men can take to reduce their chance of developing prostate cancer. For many men, regular exercise and healthy eating habits may decrease the likelihood of developing this deadly disease. Men over the age of 50, African-American men, and men with family medical histories that include prostate cancer face the greatest risk—and they can realize the greatest benefits from early detection, when treatment is most effective. All men should discuss their risk of prostate cancer with their physicians, determine the best screening and early-detection options, and adopt healthy lifestyles. Young men are also encouraged to find out whether a family member has ever been diagnosed with prostate cancer and to seek medical advice at an earlier age if a medical history exists.

The progress we have made in the battle against prostate cancer is remarkable, yet more work remains. America leads the world in cutting-edge medical research, and the Federal Government will continue to do its part to support work that will lead to better diagnostic tools and innovative treatments for prostate cancer. By providing substantial funding for programs at the National Institutes of Health, National Cancer Institute, Centers for Disease Control and Prevention, and Department of Defense, my Administration aims to improve our ability to prevent, detect, treat, and ultimately cure prostate cancer.

During National Prostate Cancer Awareness Month, America honors the victims and survivors of prostate cancer and applauds the family members and friends who provide love and encouragement. We also commend the medical professionals and researchers who are working to administer care, improve treatments, and find cures. Prostate cancer can be defeated, and we will continue this fight until the day when the battle to beat prostate cancer has been won.

NOW, THEREFORE, I, GEORGE W. BUSH, President of the United States of America, by virtue of the authority vested in me by the Constitution and laws of the United States, do hereby proclaim September 2006 as National Prostate Cancer Awareness Month. I call upon government officials, businesses, communities, health care professionals, educators, and the people of the United States to reaffirm our Nation's strong and ongoing campaign against prostate cancer.

IN WITNESS WHEREOF, I have hereunto set my hand this twenty-ninth day of August in the year of our Lord two thousand six, and of the Independence of the United States of America the two hundred and thirty-first.

[FR Doc. 06-7432

Filed 8-31-06; 8:45 am]

Billing code 3195-01-P